DEPARTMENT OF AGRICULTURE

Economic Research Service

Notice of Intent To Seek Approval To Collect Information

AGENCY: Economic Research Service, USDA.

ACTION: Notice and request for comments.

SUMMARY: In accordance with the Paperwork Reduction Act of 1995 (Pub. L. 104-13) and Office of Management and Budget (OMB) regulations at 5 CFR part 1320 (60 FR 44978, August 29, 1995), this notice announces the Economic Research Service's (ERS) intention to request approval for a new information collection from the U.S. population. The study will collect data on consumers' food purchase decisions, consumers' knowledge of food safety and nutrition, and how safety and nutrition information is influencing purchase decisions. The information will be collected four times a year, about once per quarter.

DATES: Comments on this notice must be received by December 2, 2005 to be assured of consideration.

ADDRESSES: Requests for additional information concerning this notice should be directed to Abebayehu Tegene, Food Markets Branch, Food and Rural Economics Division, Economic Research Service, U.S. Department of Agriculture, 1800 M St., NW., Washington, DC 20036-5831. Submit electronic comments to ategene@ers.usda.gov.

SUPPLEMENTARY INFORMATION: Title: Rapid Consumer Response Survey.

OMB Number: Not yet assigned.

Expiration Date: Three years from date of issuance.

Type of Request: Approval for a new collection of information to be administered by AC Nielsen.

Abstract: The Economic Research Service (ERS), as the lead economic research arm of the U.S. Department of Agriculture, has the responsibility to conduct economic research supporting the mission of the Department. This responsibility includes conducting research and providing information to Department officials on economic issues related to food safety, nutrition and health (including factors related to food choices), expenditure and consumption patterns at and away from home, food prices, food assistance programs, nutrition education, and food industry structure.

USDA faces many demands where information about consumer behavior is necessary. However, there are few sources of such data. These sources, such as the National Health and Nutrition Examination Survey (NHANES), are based on large-scale surveys. Large-scale surveys often take several years for planning, surveying, and data management. Consequently, data are a few years old when released. Policies guided by market conditions have to contend with the fact that markets may change quickly as consumers respond to emerging food safety issues or new nutrition messages.

To make best use of the large-scale surveys, researchers must be able to forecast important issues, sorting out which are transitory and which are more permanent. To better assess issues of importance to consumers and to agriculture, a pilot survey is being proposed that will address topical issues in consumer behavior. Each quarter a panel of consumers will be asked about one important issue they face. With this focused approach, knowledge will be gained about how to ask questions about safety, nutrition, and other issues without alarming consumers or guiding consumers' responses.

The quarterly surveys will be administered by AC Nielsen, a private data management and survey firm, to members of a pre-recruited panel of participants. The survey is to be completed online using the Internet. Administering the survey through the Internet will reduce the burden on respondents because the survey can be answered more quickly by computer than over the phone or in person, and because respondents can complete the survey at a time convenient to them. The panel participants have already provided AC Nielsen with household and personal characteristics such as family income, education, ethnicity, household composition, and region where they live. Thus, this information will not have to be obtained for the surveys. They also report all grocery purchases, including produce, meats and other random weight products, through the use of scanners that have been placed in their homes. By using the AC Nielsen panel of consumers, research can be conducted that links stated positions with actual market behavior. So, even if the panel members may not be representative of the U.S. population, the survey will give insight into how new issues influence markets. Such knowledge will help guide the design of large-scale surveys, and help sort out what issues ought to be addressed in this venue. The information gained from this pilot study will help researchers formulate their hypotheses and provide key indicators on consumers' attitude or perception on dietary and safety issues.

Although ERS plans to have four surveys per year, unanticipated events, such as unforeseen food safety incidents, or large swings in sales volume, prices, or quantities of major food products, may demand out-of-cycle surveys be conducted to keep information current. For similar reasons, topics for future surveys cannot be determined with certainty.

Estimate of Burden: The reporting burden on each respondent completing a quarterly survey is estimated to be 7 minutes. Each quarterly survey will have 12-14 questions.

Respondents: The panel completing each survey is composed of consumers who have already been recruited by AC Nielsen and agree to report all grocery purchases and participate in several surveys through the Internet.

Estimated Number of Respondents: The sample size for AC Nielsen's online Internet survey is 6,600 respondents.

Estimated Total Burden on Respondents: 770 hours (7 minutes per survey x 6,600 respondents) for each quarterly survey. The annual burden for four surveys totals 3,080 hours.

Comments: Comments are invited on (a) whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including the use of appropriate automated, electronic, mechanical, or other technology. Comments should be sent to the address stated in the preamble. All responses to this notice will be summarized and included in the request for Office of Management and Budget (OMB) approval. All comments will also become a matter of public record.

Dated: September 19, 2005.
Susan E. Offutt,
Administrator, Economic Research Service, USDA.

[FR Doc. 05-19308 Filed 9-27-05; 8:45 am]

BILLING CODE 3410-18-P